DEPARTMENT OF COMMERCE

International Trade Administration

[Application No. 92-12A001]

Export Trade Certificate of Review

ACTION: Notice of application to amend the Export Trade Certificate of Review issued to Aerospace Industries Association of America, Inc., Application no. 92-12A001.

SUMMARY: The Office of Trade and Economic Analysis (“OTEA”) of the International Trade Administration, Department of Commerce, has received an application to amend an Export Trade Certificate of Review (“Certificate”). This notice summarizes the proposed amendment and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 7025-X, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 92-12A001.”

The Aerospace Industries Association of America Inc. (“AIA”) original Certificate was issued on September 8, 1992 (57 FR 41920, September 14, 1992). A summary of the current application for an amendment follows.

Summary of the Application

Applicant: Aerospace Industries Association of America, Inc. (“AIA”), 1000 Wilson Boulevard, Suite 1700, Arlington, VA 22209.

Contact: Matthew F. Hall, Attorney, Telephone: (206) 862-9700.

Application No.: 92-12A01.

Date Deemed Submitted: November 21, 2013.

Proposed Amendment: AIA seeks to amend its Certificate to:

1. Add the following companies as new Members of the Certificate within the meaning of section 325.2(l) of the Regulations (15 CFR 325.2(l)): Aero Mechanical Industries (Rio Rancho, NM); Avascent (Washington, DC); Ball Aerospace & Technologies Corp. (Boulder, CO); Castle Metals (Oak Brook, IL); Crane Aerospace & Electronics (Lynnwood, WA); EPS Corporation (Tinton Falls, NJ); Oxford Performance Materials (South Windsor, CT), and The Padina Group, Inc. (Lancaster, PA).

2. Delete the following companies as Members of AIA's Certificate: AeroVironment, Inc.; Broad Reach Engineering Company; CIRCOR International, Inc.; Gentex Corporation; Goodrich Corporation; Omega Air, Inc.; OSI Systems, Inc.; the SI Organization, Inc.; Valent Aerostructures, LLC; W.L. Gore & Associates, Inc.; and Xerox Corporation.

3. Change in name or address for the following Members: Acutec Precision Manufacturing, Inc. (Saegertown, PA) is Acutec Precision Machining, Inc.; Cubic Defense Applications, Inc. (San Diego, CA) has been replaced by Cubic Corporation, Inc. (San Diego, CA); Galactic Ventures, LLC (Las Cruces, NM) has changed its name to Virgin Galactic, LLC.; Groen Brothers Aviation, Inc. (Salt Lake City, UT) has changed its name to Groen Brothers Aviation Global, Inc.; ITT Exelis, McLean, VA has changed its name to Exelis, Inc.; NYLOCK Corporation (Macomb, MI) has changed its name to NYLOCK, LLC; PARTsolutions, LLC (Milford, OH) has changed its name to CADENAS PARTsolutions, LLC (Cincinnati, OH); and SAP Public Services, Inc. (Washington, DC) has changed to SAP America, Inc. (Newtown Square, PA).

AIA's proposed amendment of its Export Trade Certificate of Review would result in the following membership list:

3M Company, St. Paul, MN

AAR Manufacturing, Inc., Wood Dale, IL

Accenture, Chicago, IL

Acutec Precision Machining, Inc., Saegertown, PA

Aero-Mark, LLC, Ontario CA

Aero Mechanical Industries, Rio Rancho, NM

Aerojet, Rancho Cordova, CA

AGC Aerospace Defense, Oklahoma City, OK

Aireon LLC, McLean, VA

Alcoa Defense, Crystal City, VA

Align Aerospace, LCC, Chatsworth, CA

Allfast Fastening Systems, City of Industry, CA

Alliant Techsystems, Inc., Minneapolis, MN

AlliedBarton Security Services, LLC, Conshohocken, PA

Allied Telesis, Inc., Bothell, WA

American Pacific Corporation, Las Vegas, NV

AMT II Corporation, New York, NY

Analytical Graphics, Inc., Exton, PA

ARINC Aerospace, Annapolis, MD

Aurora Flight Sciences Corporation, Manassas, VA

AUSCO, Inc., Port Washington, NY

Avascent; Washington, DC

B&E Group, LLC, Southwick, MA

B/E Aerospace, Inc., Wellington, FL

BAE Systems, Inc., Rockville, MD

Ball Aerospace & Technologies Corp., Boulder, CO

Barnes Group Inc., Bristol, CT

Belcan Corporation, Cincinnati, OH

Benchmark Electronics, Inc., Angleton, TX

The Boeing Company, Chicago, IL

Bombardier, Montreal, Canada

BRS Aerospace, St. Paul, MN

CAE USA Inc., Tampa, FL

Camcode Division of Horizons, Inc., Cleveland, OH

Castle Metals, Oak Brook, IL

Celestica Corporation, Toronto, Canada

CERTON Software, Inc., Melbourne, FL

Chromalloy, San Antonio, TX

Click Bond, Inc., Carson City, NV

Cobham, Arlington, VA

Colt Defense, LLC, West Hartford, CT

Computer Sciences Corporation, Falls Church, VA

CPI Aerostructures, Inc., Edgewood, NY

Crane Aerospace & Electronics; Lynnwood, WA

Cubic Corporation, Inc., San Diego, CA

Curtiss-Wright Corporation, Parsippany, NJ

Deloitte Consulting LLP, New York, NY

Deltek, Inc., Herndon, VA

Denison Industries, Inc., Denison, TX

DitigalGlobe, Inc., Longmont, CO

Ducommun Incorporated, Carson, CA

Dupont Company, New Castle, DE

Eaton Corporation, Cleveland, OH

Elbit Systems of America, LLC, Fort Worth, TX,

Embraer Aircraft Holding, Inc., Fort Lauderdale, FL

ENSCO, Inc., Falls Church, VA

EPS Corporation; Tinton Falls, NJ

Erickson Air-Crane Inc., Portland, OR

Ernst Young LLP, New York, NY

ESI North America, Bloomfield Hills, MI

ESIS, Inc., San Diego, CA

Esterline Technologies, Bellevue, WA

Exostar, LLC, Herndon, VA

Flextronics International USA, Inc., San Jose, CA

Flight Safety International, Inc., Flushing, NY

Fluor Corporation, Irving, TX

FTG Circuits, Inc., Chatsworth, CA

Galaxy Technologies, Winfield, KS

General Atomics Aeronautical Systems, Inc., Poway, CA

General Dynamics Corporation, Falls Church, VA

General Electric Aviation, Cincinnati, OH

GKN Aerospace North America, Irving, TX

Groen Brothers Aviation Global, Inc., Salt Lake City, UT

Guardsmark, LLC, New York, NY

Harris Corporation, Melbourne, FL

HCL America Inc., Sunnyvale, CA

HEICO Corporation, Hollywood, FL

Hexcel Corporation, Stamford, CT

Hi-Shear Technology Corporation, Torrance, CA

HITCO Carbon Composites, Inc., Gardena, CA

Honeywell Aerospace, Phoenix, AZ

HP Enterprise Services—Aerospace, Palo Alto, CA

Huntington Ingalls Industries, Inc., Newport News, VA

Hydra Electric Company, Burbank, CA

IBM Corporation, Armonk, NY

IEC Electronics Corporation, Newark, NJ

Infotech Enterprises America Inc., East Hartford, CT

Exelis, Inc., McLean, VA

Jabil Defense & Aerospace Services LLC, St. Petersburg, FL

Kaman Aerospace Corporation, Bloomfield, CT

Kemet Electronics Corporations, Simpsonville, SC

KPMG LLP, New York, NY

L-3 Communications Corporation, New York, NY

LAI International, Inc., Scottsdale, AZ

LMI Aerospace, Inc., St. Charles, MO

Lockheed Martin Corporation, Bethesda, MD

Lord Corporation, Cary, NC

Marotta Controls, Inc., Montville, NJ

Meggitt-USA, Inc., Simi, CA

Micro-Coax, Inc., Pottstown, PA

Microsemi Corporation, Aliso Viejo, CA

MOOG Inc., East Aurora, NY

Natel Engineering Company, Inc., Chatsworth, CA

National Technical Systems, Inc., Calabasas, CA

NobleTek, Wooster, OH

The NORDAM Group, Inc., Tulsa, OK

Northrop Grumman Corporation, Los Angeles, CA

NYLOK, LLC, Macomb, MI

O'Neil Associates Inc., Miamisburg, OH

Ontic Engineering and Manufacturing, Inc., Chatsworth, CA

Oracle USA, Inc., Redwood Shores, CA

Oxford Performance Materials; South Windsor, CT

Pacifica Engineering, Inc., Mukiliteo, WA

Pall Aeropower Corporation, New Port Richey, FL

Parametric Technology Corporation, Needham, MA

Parker Aerospace, Irvine, CA

CADENAS PARTsolutions, LLC, Cincinnati, OH

Pinkerton Government Services, Inc., Springfield, VA

Plexus Corporation, Neenah, WI

PPG Aerospace-Sierracin Corporation, Sylmar, CA

PWC Aerospace & Defense Advisory Services, McLean, VA

RAF Tabtronics LLC, Deland, FL

Raytheon Company, Waltham, MA

Realization Technologies Inc., San Jose, CA

Rhinestahl Corporation, Mason, OH

Rix Industries, Benicia, CA

Rockwell Collins, Inc., Cedar Rapids, IA

Rolls-Royce North America, Inc., Reston, VA

RTI International Metals, Inc., Pittsburgh, PA

Satair USA Inc., Atlanta, GA

SAP America, Inc., Newtown Square, PA

SCB Training Inc., Santa Fe Springs, CA

Science Applications International Corporation, McLean, VA

Seal Science, Inc., Irvine, CA

Siemens PLM Software, Plano, TX

Sierra Nevada Corporation, Space Systems, Littleton, CO

SIFCO Industries, Inc., Cleveland, OH

Sila Solutions Group, Tukwila, WA

SITA, Atlanta, GA

Space Exploration Technologies Corporation, Hawthorne, CA

Sparton Corporation, Schaumburg, IL

Spirit AeroSystems, Inc., Wichita, KS

SRA International, Inc., Fairfax, VA

TASC, Inc., Chantilly, VA

Tech Manufacturing, LLC, Wright City, MO

Textron Inc., Providence, RI

The Padina Group, Inc.; Lancaster, PA

Therm, Incorporated, Ithaca, NY

Timken Aerospace Transmissions, LLC, Manchester, CT

Triumph Group Inc., Wayne, PA

United Technologies Corporation, Hartford, CT

Virgin Galactic, LLC, Las Cruces, NM

Wesco Aircraft Hardware Corporation, Valencia, CA

Woodward, Inc., Fort Collins, CO

Dated: November 27, 2013.
Emily Kilcrease,
Acting Director, Office of Trade and Economic Analysis.

[FR Doc. 2013-28966 Filed 12-3-13; 8:45 am]

BILLING CODE 3510-DR-P